DEPARTMENT OF COMMERCE

International Trade Administration

[A-428-602]

Brass Sheet and Strip From Germany: Notice of Rescission of Antidumping Duty Administrative Review

AGENCY: Import Administration, International Trade Administration, U.S. Department of Commerce.

DATES: Effective Date: June 1, 2012.

FOR FURTHER INFORMATION CONTACT: Dennis McClure or George McMahon, AD/CVD Operations, Office 3, Import Administration, International Trade Administration, U.S. Department of Commerce, 14th Street and Constitution Avenue NW., Washington, DC 20230; telephone: (202) 482-5973 or (202) 482-1167, respectively.

SUPPLEMENTARY INFORMATION:

Background

On March 1, 2012, the Department published in the Federal Register the notice of opportunity to request an administrative review of the antidumping duty order on brass sheet and strip from Germany for the period of review (“POR”), March 1, 2011, through February 29, 2012.¹

¹ See Antidumping or Countervailing Duty Order, Finding, or Suspended Investigation; Opportunity to Request Administrative Review, 77 FR 12559 (March 1, 2012).

On April 2, 2012, the petitioners ² timely requested that the Department conduct an administrative review of the following ten producers/exporters of brass sheet and strip from Germany: Aurubis Stolberg GmbH & Co. KG (“Aurubis”), Carl Schreiber GmbH (“Schreiber”), KME Germany AG & Co. KG (“KME”), Messingwerk Plettenberg Herfeld GmbH & Co. KG (“Messingwerk”), MKM Mansfelder Kupfer & Messing GmbH (“MKM”), Schlenk Metallfolien GmbH & Co. KG (“Schlenk”), Schwermetall Halbzeugwerk GmbH & Co. KG (“Schwermetall”), Sundwiger Messingwerke GmbH & Co. KG (“Sundwiger”), ThyssenKrupp VDM GmbH (“ThyssenKrupp”), and Wieland-Werke AG (“Wieland”). Pursuant to this request and in accordance with 19 CFR 351.221(c)(1)(i), the Department published a notice initiating the administrative review of Aurubis, Schreiber, KME, Messingwerk, MKM, Schlenk, Schwermetall, Sundwiger, ThyssenKrupp, and Wieland.³

² GBC Metals, LLC of Global Brass and Copper, Inc., dba Olin Brass, Heyco Metals, Inc., Aurubis Buffalo, Inc., PMX Industries, Inc., and Revere Copper Products, Inc.

³ See Initiation of Antidumping and Countervailing Duty Administrative Reviews and Request for Revocation in Part, 77 FR 25401 (April 30, 2012).

On May 3, 2012, the Department placed on the record and invited interested parties to comment on U.S. Customs and Border Protection (“CBP”) data. See Memorandum to the File from George McMahon, Senior International Trade Analyst, through Melissa Skinner, Office Director, concerning “2011-2012 Antidumping Duty Administrative Review of Brass Sheet and Strip from Germany: Release of Customs and Border Protection (“CBP”) Data,” dated May 3, 2012. The CBP data query results indicated no entries of subject merchandise during the POR from the ten producers/exporters for which a review was requested.

On May 10, 2012, Schwermetall and Wieland submitted comments on the CBP data, stating that this data indicates that none of the ten companies for which a review was requested is identified in any entry of subject merchandise during the POR. Schwermetall and Wieland further state that there are no entries for the Department to review, and no basis on which the Department may select respondents. Therefore, Schwermetall and Wieland assert that the Department should rescind the instant review.

On May 14, 2012, the petitioners timely withdrew their request for an administrative review of Aurubis, Schreiber, KME, Messingwerk, MKM, Schlenk, Schwermetall, Sundwiger, ThyssenKrupp, and Wieland; all of the companies for which they requested review.

Rescission of Review

Pursuant to 19 CFR 351.213(d)(1), the Secretary will rescind an administrative review, in whole or in part, if the parties that requested a review withdraw the request within 90 days of the date of publication of the notice of initiation of the requested review. As noted above, petitioners withdrew their request for review of Aurubis, Schreiber, KME, Messingwerk, MKM, Schlenk, Schwermetall, Sundwiger, ThyssenKrupp, and Wieland (all of the companies for which they requested a review) within 90 days of the date of publication of the notice of initiation. Moreover, no other interested party requested an administrative review of these respondents. Therefore, in accordance with 19 CFR 351.213(d)(1) and consistent with our practice, we are rescinding this review in its entirety.

Assessment

The Department will instruct CBP to assess antidumping duties on all entries of brass sheet and strip from Germany. Antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of rescission of administrative review.

Notification to Importers

This notice also serves as a final reminder to importers of their responsibility under 19 CFR 351.402(f) to file a certificate regarding the reimbursement of antidumping duties prior to liquidation of the relevant entries during this review period. Failure to comply with this requirement could result in the presumption that reimbursement of antidumping duties occurred and the subsequent increase in antidumping duties by the amount of antidumping duties reimbursed.

Notification Regarding Administrative Protective Order

This notice serves as a final reminder to parties subject to administrative protective order (“APO”) of their responsibility concerning the disposition of proprietary information disclosed under an APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: May 24, 2012.
Gary Taverman,
Acting Deputy Assistant Secretary for Antidumping and Countervailing Duty Operations.

[FR Doc. 2012-13244 Filed 5-31-12; 8:45 am]

BILLING CODE 3510-DS-P